FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel Operating Common Carrier Ocean Transportation Intermediary Applicants:

Intertainer Line, Inc. 5839 Bender Road, Humble, TX 77396, Officer: Gustavo Kolmel, President, (Qualifying Individual),

ATA Logistics Inc. 10722 South La Cienaga Blvd., Inglewood, CA 90304, Officers: Simon Cheng, Chief Operations Officer, (Qualifying Individual), Denny W. Chang, President.

UMAC Express Forwarders North America Inc. dba UMAC Express Cargo, 10518 South Tacoma Way, Suite C, Lakewood, WA 98499, Officers: Jesus C. Domingo, Chairman, (Qualifying Individual), Librado Francisco, President.

Standard Shippers, Inc., 3116 Clarendon Road, Brooklyn, NY 11226, Officers: Gideon Yorke, President, (Qualifying Individual), Vlada Joseph, Vice President.

Zimex Logistics, Inc., 460 E. Carson Plaza Dr., Suite 219, Carson, CA 90746, Officers: Wendy Jin, Vice President, (Qualifying Individual), Young Hyo Kim, President.

Sealink International, Inc., 20939 Anza Ave., Suite 267, Torrance, CA 90503, Officers: Ronald M. Morgan, Chief Operations Officer, (Qualifying Individual), Nooroddin Fazal, President.

Pegasus International, Inc., 181 S. Franklin Avenue, Suite 608, Valley Stream, NY 11581, Officer: James Wang, President, (Qualifying Individual).

Non-Vessel Operating Common Carrier and Ocean Freight Forwarder Transportation Intermediary Applicants:

Bekins Independence Forwarders, Inc., dba Bekins International, 330 Mannheim Road, Hillside, IL 60162, Officers: Jack Griffin, Senior Vice President, (Qualifying Individual), Larry Marzullo, President.

U.S. Logistics Inc., 20 Jerusalem Ave., Hicksville, NY 11580, Officers: John J. Jacobsen, Jr., Vice President, (Qualifying Individual), Carole A. Murray, President.

Export Logistics, LLC, 11222 S. La Cienega Blvd., Suite 375, Inglewood, CA 90304, Officer: Vivian Gonzalez, Sole Manager, (Qualifying Individual).

Ace Transportation Systems, dba D. Cheung International, 436 N. Canal Street, Unit 14, So. San Francisco, CA 94080, Daniel H. Cheung, Sole Proprietor.

Trident Maritime Transportation, 13831 Southwest 59th Street, Suite 208-B, Miami, FL 33138, Officers: Freddy Zelaya, Vice President, (Qualifying Individual), Rodrigo Zawadski, President.

Auto Export Group LLC, 130 McCormick Avenue, Suite 108, Costa Mesa, CA 92626, Officers: Dmytro I. Prokopenko, Active Partner, (Qualifying Individual), Oleg Shkoda, Active Partner.

Ocean Freight Forwarder—Ocean Transportation Intermediary, Applicants:

Akamai Freight Services, LLC, 4734 North Tenth Place, Phoenix, AR 85014, Officer: Joseph Horbaczewski Member, (Qualifying Individual).

Alas Cargo LLC, 548 E. Sepulveda Blvd., Suite D, Carson, CA 90745, Officers: Peter Syhongpan, Operating Manager, (Qualifying Individual), Yolanda Syhongpan, Secretary.

Kronos Shipping Inc., dba Kronos International, Shippers, 2520 S. State Street, Chicago, IL 60616, Officer: Nick Mourikis, President, (Qualifying Individual).

True North Relocations, LLC, 157 Yesler Way, Suite 505, Seattle, WA 98104, Officers: Heather Anne Engel, President, (Qualifying Individual), Michael J. Raney, Vice President.

Varko International Corp., 7700 NW 73rd Court, Medley, FL 33166, Officers: Ida A. Valdes, Officer, (Qualifying Individual), Carlos Vales, President.

Dated: April 30, 2004.
Bryant L. VanBrakle,
Secretary.

[FR Doc. 04-10221 Filed 5-4-04; 8:45 am],

BILLING CODE 6730-01-P